DEPARTMENT OF HEALTH AND HUMAN SERVICES

Centers for Disease Control and Prevention

CDC/HRSA Advisory Committee on HIV, Viral Hepatitis and STD Prevention and Treatment (CHACHSPT)

AGENCY: Centers for Disease Control and Prevention (CDC), Department of Health and Human Services (HHS).

ACTION: Notice of meeting.

SUMMARY: In accordance with the Federal Advisory Committee Act, the CDC and the Health Resources and Services Administration (HRSA), announce the following meeting for the CDC/HRSA Advisory Committee on HIV, Viral Hepatitis and STD Prevention and Treatment (CHACHSTP). This meeting is open to the public, limited only by the number of audio and web conference lines (1,000 audio and web conference lines are available). Members of the public are welcome to listen to the meeting by accessing the telephone number and web conference access provided in the addresses section below. Time will be available for public comment.

DATES: The meeting will be held on April 26, 2022, from 11:00 a.m. to 5:30 p.m., EDT; April 27, 2022, from 11:00 a.m. to 4:00 p.m., EDT; and April 28, 2022, from 10:00 a.m. to 12:00 p.m., EDT.

ADDRESSES: The telephone access number is 1-669-254-5252, Webinar ID: 161 660 6170, and Passcode: 77845136. The web conference access is https://cdc.zoomgov.com/j/1616606170?pwd=N0NYMkxubmxIZEl6U2NnallyNzFQQT09 and Passcode: J1G&D&Cq. There are 1,000 lines available for audio and web conference.

FOR FURTHER INFORMATION CONTACT: Marah Condit, MS, Committee Management Lead, National Center for HIV, Viral Hepatitis, STD, and TB Prevention, CDC, 1600 Clifton Road NE, Mailstop US8-6, Atlanta, Georgia 30329-4027, Telephone: (404) 639-3423; Email: nchhstppolicy@cdc.gov.

SUPPLEMENTARY INFORMATION:

Purpose: This committee is charged with advising the Director, CDC, and the Administrator, HRSA, regarding activities related to prevention and control of HIV, viral hepatitis, and other STDs; the support of healthcare services to persons with HIV; and education of health professionals and the public about HIV, viral hepatitis, and other STDs.

Matters To Be Considered: The agenda will include discussions on (1) Leveraging policy to advance HIV, STI, and viral hepatitis priorities; (2) Providing comprehensive STI services; (3) Syndemic approaches to HIV, viral hepatitis, and STI prevention; and (4) Self-testing and self-sample collection. Agenda items are subject to change as priorities dictate.

Public Participation

Procedure for Written Comment: The public is welcome to submit written comments in advance of the meeting. Written comments must be submitted in writing by email to nchhstppolicy@cdc.gov with subject line “Spring CHAC Public Comment Registration” by Tuesday, April 19, 2022.

Procedure for Oral Comment: Individuals who desire to make an oral statement during the public comment period may register by submitting a request in writing by email to nchhstppolicy@cdc.gov with subject line “Spring CHAC Public Comment Registration” by Thursday, April 21, 2022. The public comment period is on April 27, 2022, at 3:30 p.m., EDT.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-05799 Filed 3-18-22; 8:45 am]

BILLING CODE 4163-18-P